DEPARTMENT OF TRANSPORTATION

Federal Aviation Administration

14 CFR Part 39

[Docket Nos. FAA-2007-0410, FAA-2007-0411, and FAA-2007-0412; Directorate Identifiers 2007-NM-338-AD, 2007-NM-291-AD, and 2007-NM-290-AD; Amendments 39-15325, 39-15326, 39-15327; ADs 2008-01-02, 2004-07-22 R1, and 90-25-05 R1]

RIN 2120-AA64

Airworthiness Directives; Viking Air Limited Model (Caribou) DHC-4 and (Caribou) DHC-4A Airplanes; and Boeing Model 747-100, 747-100B, 747-100B SUD, 747-200B, 747-200C, 747-200F, 747-300, 747-400, 747-400D, 747-400F, 747SR, and 747SP Series Airplanes

AGENCY: Federal Aviation Administration (FAA), Department of Transportation (DOT).

ACTION: Final rule; corrections.

SUMMARY: The FAA is correcting typographical errors in three existing airworthiness directives (ADs) that were published in the Federal Register on January 8, 2008 (73 FR 1269); January 7, 2008 (73 FR 1052); and January 7, 2008 (73 FR 1055). The errors resulted in incorrect docket numbers. One AD applies to all Viking Air Limited Model (Caribou) DHC-4 and (Caribou) DHC-4A airplanes. The other two ADs apply to all Boeing Model 747-100, 747-100B, 747-100B SUD, 747-200B, 747-200C, 747-200F, 747-300, 747-400, 747-400D, 747-400F, 747SR, and 747SP series airplanes. The Viking Air AD requires doing a fluorescent penetrant inspection for cracking of certain upper engine mount bracket assemblies, and corrective actions if necessary. One of the Boeing ADs requires revising the FAA-approved maintenance inspection program to include inspections that will give no less than the required damage tolerance rating for each structural significant item, and repair of cracked structure. The other Boeing AD requires implementing a corrosion prevention and control program.

DATES: AD 2008-01-02 is effective January 23, 2008. ADs 2004-07-22 R1 and 90-25-05 R1 are effective January 22, 2008.

ADDRESSES: You may examine the AD dockets on the Internet at http://www.regulations.gov; or in person at the Docket Management Facility between 9 a.m. and 5 p.m., Monday through Friday, except Federal holidays. The AD dockets contain this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION ON AD 2008-01-02, CONTACT: George Duckett, Aerospace Engineer, Airframe and Propulsion Branch, ANE-171, FAA, New York Aircraft Certification Office, 1600 Stewart Avenue, Suite 410, Westbury, New York 11590; telephone (516) 228-7325; fax (516) 794-5531.

FOR FURTHER INFORMATION ON ADs 2004-07-22 R1 and 90-25-05 R1, CONTACT: Ivan Li, Aerospace Engineer, Airframe Branch, ANM-120S, FAA, Seattle Aircraft Certification Office, 1601 Lind Avenue, SW., Renton, Washington 98057-3356; telephone (425) 917-6437; fax (425) 917-6590.

SUPPLEMENTARY INFORMATION: We have issued the ADs identified in the following table.

Affected ADs
AD— | Affects— | And requires—
2008-01-02, amendment 39-15325 (73 FR 1269, January 8, 2008), issued December 20, 2007 | All Viking Air Limited Model (Caribou) DHC-4 and (Caribou) DHC-4A airplanes | A fluorescent penetrant inspection (FPI) for cracking of certain upper engine mount bracket assemblies, and corrective actions if necessary.
2004-07-22 R1, amendment 39-15326 (73 FR 1052, January 7, 2008), issued December 26, 2007 | All Boeing Model 747-100, 747-100B, 747-100B SUD, 747-200B, 747-200C, 747-200F, 747-300, 747-400, 747-400D, 747-400F, 747SR, and 747SP series airplanes | Revising the FAA-approved maintenance inspection program to include inspections that will give no less than the required damage tolerance rating for each structural significant item, and repair of cracked structure.
90-25-05 R1, amendment 39-15327 (73 FR 1055, January 7, 2008), issued December 26, 2007 | All Boeing Model 747-100, 747-100B, 747-100B SUD, 747-200B, 747-200C, 747-200F, 747-300, 747-400, 747-400D, 747-400F, 747SR, and 747SP series airplanes | Implementing a corrosion prevention and control program. (That AD revised an earlier AD by removing future type-certificated models from the applicability.)

As published, those ADs specify incorrect docket numbers throughout the preamble and regulatory text. Docket numbers are assigned by the Federal Document Management System. We have been informed that incorrect docket numbers were assigned. The correct docket information is provided in the following table.

Corrected AD Docket Numbers
AD No. | Original Docket No. | Corrected Docket No.
AD 2008-01-02 | FAA-2008-0410 | FAA-2007-0410
2004-07-22 R1 | FAA-2008-0411 | FAA-2007-0411
AD 90-25-05 R1 | FAA-2008-0412 | FAA-2007-0412

Any commenter who submitted comments to an original, incorrect docket number should check Docket No. FAA-2007-0410, FAA-2007-0411, or FAA 2007-0412 on www.regulations.gov to determine whether the comments have been received and filed in the appropriate docket. If not, or if it is not possible to determine whether comments have been posted to the correct docket, the comments should be resubmitted using the correct docket number.

No other part of the preamble or regulatory information has been changed; therefore, the final rule is not republished in the Federal Register.

The effective date of AD 2008-01-02 remains January 23, 2008. The effective date of AD 2004-07-22 R1 remains January 22, 2008. The effective date of AD 90-25-05 R1 remains January 22, 2008.

Correction

In the Federal Register of January 8, 2008, on page 1269, in the third column, the headings section of AD 2008-01-02 is corrected to read as follows:

“[Docket No. FAA-2007-0410; Directorate Identifier 2007-NM-338-AD; Amendment 39-15325; AD 2008-01-02]”

In the Federal Register of January 7, 2008, on page 1052, in the first column, the headings section of AD 2004-07-22 R1 is corrected to read as follows:

“[Docket No. FAA-2007-0411; Directorate Identifier 2007-NM-291-AD; Amendment 39-15326; AD 2004-07-22 R1]”

In the Federal Register of January 7, 2008, on page 1055, in the second column, the headings section of AD 90-25-05 R1 is corrected to read as follows:

“[Docket No. FAA-2007-0412; Directorate Identifier 2007-NM-290-AD; Amendment 39-15327; AD 90-25-05 R1]”

In the Federal Register of January 8, 2008, on page 1270, in the second and third columns, the Supplemental Information section of Docket No. FAA-2008-0410, Directorate Identifier 2007-NM-338-AD, is corrected to read as follows:

“* * * Include “Docket No. FAA-2007-0410; Directorate Identifier 2007-NM-338-AD” at the beginning of your comments. * * *

In the Federal Register of January 7, 2008, on page 1053, in the second column, the Supplemental Information section of Docket No. FAA-2008-0411, Directorate Identifier 2007-NM-291-AD, is corrected to read as follows:

“* * * Include “Docket No. FAA-2007-0411; Directorate Identifier 2007-NM-291-AD” at the beginning of your comments. * * *

In the Federal Register of January 7, 2008, on page 1056, in the third column, the Supplemental Information section of Docket No. FAA-2008-0412, Directorate Identifier 2007-NM-290-AD, is corrected to read as follows:

“* * * Include “Docket No. FAA-2007-0412; Directorate Identifier 2007-NM-290-AD” at the beginning of your comments. * * *

§ 39.13 [Corrected]

In the Federal Register of January 8, 2008, on page 1271, in the first column, paragraph 2. of PART 39—AIRWORTHINESS DIRECTIVES of AD 2008-01-02 is corrected to read as follows:

* * * * *

2008-01-02 Viking Air Limited (Formerly Bombardier, Inc.): Amendment 39-15325. Docket No. FAA-2007-0410; Directorate Identifier 2007-NM-338-AD.

* * * * *

In the Federal Register of January 7, 2008, on page 1053, in the third column, paragraph 2. of PART 39-AIRWORTHINESS DIRECTIVES of AD 2004-07-22 R1 is corrected to read as follows:

* * * * *

2004-07-22 R1 Boeing: Amendment 39-15326. Docket No. FAA-2007-0411; Directorate Identifier 2007-NM-291-AD.

* * * * *

In the Federal Register of January 7, 2008, on page 1057, in the first column, paragraph 2. of PART 39-AIRWORTHINESS DIRECTIVES of AD 90-25-05 R1 is corrected to read as follows:

* * * * *

90-25-05 R1 Boeing: Amendment 39-15327. Docket No. FAA-2007-0412; Directorate Identifier 2007-NM-290-AD.

* * * * *

Issued in Renton, Washington, on February 7, 2008.
Kevin Hull,
Acting Manager, Transport Airplane Directorate, Aircraft Certification Service.

[FR Doc. E8-2623 Filed 2-13-08; 8:45 am]

BILLING CODE 4910-13-P